DEPARTMENT OF HOMELAND SECURITY

Transportation Security Administration

Intent To Request Renewal From OMB of One Current Public Collection of Information: Department of Homeland Security—Vulnerability Identification Self-Assessment Tool—Transportation (DHS-VISAT-T)

AGENCY: Transportation Security Administration (TSA), DHS.

ACTION: Notice.

SUMMARY: TSA invites public comment on one currently approved information collection requirement abstracted below that we will submit to the Office of Management and Budget (OMB) for renewal in compliance with the Paperwork Reduction Act.

DATES: Send your comments by November 22, 2005.

ADDRESSES: Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Department of Homeland Security—Vulnerability Identification Self-Assessment Tool—Transportation (DHS-VISAT-T).

Type of Request: Extension of a currently approved collection.

OMB Control Number: 1652-0037.

Forms(s): NA.

Affected Public: Various modal transportation sector owners and operators.

Abstract: After its inception, TSA faced the challenge of securing all of the different modes within the transportation sector. A methodology was required in order to support inter- and intra-modal analysis and decision-making. Millions of assets exist within the transportation sector, ranging from over 500,000 highway-bridges to over 19,000 general aviation airports. Given this population of assets, it became apparent that a mechanism was needed to solicit data from the asset owners/operators. TSA needs this data, such as the assets' security measures currently deployed, along with a high-level assessment of system security effectiveness, in order to prioritize resources.

In response to this need, TSA's Office of Threat Assessment and Risk Management (OTRM) developed the Department of Homeland Security—Vulnerability Identification Self-Assessment Tool—Transportation (DHS-VISAT-T), formerly called the TSA Self-Assessment Risk Module (TSARM), as a means to gather security-related data and provide a cost-free service to the transportation sector. TSA designed this tool to be flexible to support the unique characteristics of each transportation mode, while still providing a common framework from which analysis and trends can be identified. DHS-VISAT-T represents the U.S. Government's first self-assessment tool that provides the following features:

• The tool is provided to users at no cost;

• The tool is voluntary (potential users contact TSA to access the tool);

• The tool is web-based, easily accessible; and

• All ratings are determined by the user.

Upon completion of the tool assessment, users receive a report that summarizes their inputs. They may then use this report to develop a security plan or to identify areas of potential vulnerability. Users have the option to submit the completed assessment to DHS. If submitted, DHS reviews the assessment for consistency and provides feedback to the users.

Owners and operators within the transportation sector can access information about the tool by visiting TSA's Web site: www.tsa.gov, selecting “Industry Partners,” then “Risk Management,” then finally selecting the “DHS-VISAT” link. Thus far, TSA has developed modules of the tool for maritime, mass transit, highway bridges, and rail passenger stations, with more in development.

TSA is seeking OMB approval to renew this control number for the maximum three-year period to continue to provide this tool to transportation owners and operators.

Number of Respondents: Of the possible 3,002,450 respondents from the various transportation sectors, TSA expects that approximately 10 percent, or 300,245, will use the tool.

Estimated Annual Burden Hours: An estimated 2,401,960 hours annually.

Issued in Arlington, Virginia, on September 19, 2005.
Lisa S. Dean,
Privacy Officer.

[FR Doc. 05-19089 Filed 9-22-05; 8:45 am]

BILLING CODE 4910-62-P